DEPARTMENT OF ENERGY

Federal Energy Regulatory Commission

Notice of Commission Staff Attendance

The Federal Energy Regulatory Commission (Commission) hereby gives notice that members of the Commission's staff may attend the following meetings related to the transmission planning activities of ISO New England Inc., New York Independent System Operator, Inc., and PJM Interconnection, L.L.C.:

Joint Inter-Regional Planning Task Force/Electric System Planning Working Group

May 16, 2013, 10:00 a.m. to 4:00 p.m., Local Time

Electric System Planning Working Group

May 30, 2013, 10:00 a.m. to 4:00 p.m., Local Time

June 13, 2013, 10:00 a.m. to 4:00 p.m., Local Time

June 27, 2013, 10:00 a.m. to 4:00 p.m., Local Time

The above-referenced meeting is open to stakeholders and will be held at: NYISO's offices, Rensselaer, NY.

Further information may be found at www.nyiso.com

The discussions at the meetings described above may address matters at issue in the following proceedings:

Docket No. ER08-1281, New York Independent System Operator, Inc.

Docket No. EL05-121, PJM Interconnection, L.L.C.

Docket No. EL10-52, Central Transmission, LLC v. PJM Interconnection, L.L.C.

Docket No. ER10-253 and EL10-14, Primary Power, L.L.C.

Docket No. EL12-69, Primary Power LLC v. PJM Interconnection, L.L.C.

Docket No. ER11-1844, Midwest Independent Transmission System Operator, Inc.

Docket No. ER12-1178, PJM Interconnection, L.L.C.

Docket No. ER13-90, Public Service Electric and Gas Company and PJM Interconnection, L.L.C.

Docket No. ER13-102-000, New York Independent System Operator, Inc.

Docket No. ER13-193-000, ISO New England Inc.

Docket No. ER13-195, Indicated PJM Transmission Owners

Docket No. ER13-196-000, ISO New England Inc.

Docket No. ER13-198, PJM Interconnection, L.L.C

Docket No. ER13-397, PJM Interconnection, L.L.C.

Docket No. ER13-673, PJM Interconnection, L.L.C

Docket No. ER13-703, PJM Interconnection, L.L.C.

Docket No. ER13-887, PJM Interconnection, L.L.C.

Docket No. ER13-1052, PJM Interconnection, L.L.C. and the Midwest Independent Transmission System Operator, Inc.

Docket No. ER13-1054, PJM Interconnection, L.L.C. and the Midwest Independent Transmission System Operator, Inc.

For more information, contact James Eason, Office of Energy Market Regulation, Federal Energy Regulatory Commission at (202) 502-8622 or James.Eason@ferc.gov.

Dated: April 30, 2013.
Kimberly D. Bose,
Secretary.

[FR Doc. 2013-10638 Filed 5-3-13; 8:45 am]

BILLING CODE 6717-01-P